DEPARTMENT OF THE INTERIOR

Bureau of Land Management

[WY-920-1320-EL, WYW172923]

Notice of Invitation—Coal Exploration License, WY

AGENCY: Bureau of Land Management, Interior.

ACTION: Notice of Invitation for Coal Exploration License WYW172923.

SUMMARY: Pursuant to section 2(b) of the Mineral Leasing Act of 1920, as amended by section 4 of the Federal Coal Leasing Amendments Act of 1976, 90 Stat. 1083, 30 U.S.C. 201 (b), and to the regulations adopted as 43 CFR part 3410, interested parties are hereby invited to participate with Black Butte Coal Company on a pro rata cost sharing basis in its program for the exploration of coal deposits owned by the United States of America in the following-described lands in Sweetwater County, WY:

T. 17 N., R. 101 W., 6th P.M., Wyoming

Sec. 4: Lots 1-4, S½N½, S½; Sec. 10: All;

T. 18 N., R. 101 W., 6th P.M., Wyoming

Sec. 34: All.

Containing 1,919.68 acres, more or less.

ADDRESSES: Copies of the exploration plan are available for review during normal business hours (9 a.m. to 4 p.m.), Monday through Friday in the following offices (serialized under number WYW172923): Bureau of Land Management, Wyoming State Office, 5353 Yellowstone Road, P.O. Box 1828, Cheyenne, WY 82003; and, Bureau of Land Management, Rock Springs Field Office, 280 Highway 191 North, Rock Springs, WY 82901. The written notice should be sent to the following addresses: Black Butte Coal Company, Attn: Jon Gross, P.O. Box 98, Point of Rocks, WY 82901, and the Bureau of Land Management, Wyoming State Office, Branch of Solid Minerals, Attn: Mavis Love, P.O. Box 1828, Cheyenne, WY 82003.

SUPPLEMENTARY INFORMATION: All of the coal in the above-described land consists of unleased Federal coal within the Rock Springs Known Recoverable Coal Resource Area. The purpose of the exploration program is to obtain structural and quality information of the coal. The proposed exploration program is fully described and will be conducted pursuant to an exploration plan to be approved by the Bureau of Land Management. This notice of invitation will be published in the Rock Springs Daily Rocket-Miner once each week for two consecutive weeks beginning the week of July 3, 2006, and in the Federal Register. Any party electing to participate in this exploration program must send written notice to both the Bureau of Land Management and Black Butte Coal Company, as provided in the ADDRESSES section above, no later than thirty days after publication of this invitation in the Federal Register.

The foregoing is published in the Federal Register pursuant to 43 CFR 3410.2-1(c)(1).

Dated: June 15, 2006.
Phillip C. Perlewitz,
Acting Deputy State Director, Minerals and Lands.

[FR Doc. 06-6328 Filed 7-18-06; 8:45 am]

BILLING CODE 4310-22-P